DEPARTMENT OF ENERGY

Federal Energy Regulatory Commission

Combined Notice of Filings #1

December 30, 2010.

Take notice that the Commission received the following electric corporate filings:

Docket Numbers: EC11-34-000.

Applicants: White Oak Energy Holdings LLC.

Description: Application for Authorization for Disposition of Jurisdictional Facilities, Request for Confidential Treatment, and Request for Expedited Consideration of White Oak Energy Holdings LLC.

Filed Date: 12/30/2010.

Accession Number: 20101230-5140.

Comment Date: 5 p.m. Eastern Time on Thursday, January 20, 2011.

Take notice that the Commission received the following electric rate filings:

Docket Numbers: ER93-3-000.

Applicants: United Illuminating Company, The.

Description: Updated Market Power Analysis of The United Illuminating Company.

Filed Date: 12/30/2010.

Accession Number: 20101230-5148.

Comment Date: 5 p.m. Eastern Time on Monday, February 28, 2011.

Docket Numbers: ER98-4159-019; ER04-268-017; ER06-398-014; ER06-399-014; ER07-157-011; ER10-622-004.

Applicants: Duquesne Light Company, Macquarie Energy LLC.

Description: Updated Market Power Analysis of the Duquesne Companies and Macquarie Energy LLC.

Filed Date: 12/30/2010.

Accession Number: 20101230-5136.

Comment Date: 5 p.m. Eastern Time on Monday, February 28, 2011.

Docket Numbers: ER99-1522-006; ER02-723-005; ER04-359-004; ER06-796-004; ER07-553-003; ER07-554-003; ER07-555-003; ER07-556-003; ER07-557-003.

Applicants: Emera Energy Services Subsidiary No. 2 LLC, Emera Energy Services Subsidiary No. 3 LLC, Emera Energy Services Subsidiary No. 5 LLC, Emera Energy Services, Inc., Bangor Hydro Electric Company, Emera Energy U.S. Subsidiary No. 1, Inc., Emera Energy U.S. Subsidiary No. 2, Inc., Emera Energy Services Subsidiary No. 1 LLC, Emera Energy Services Subsidiary No. 4 LLC.

Description: Triennial Update of Bangor Hydro Electric Company, et al.

Filed Date: 12/29/2010.

Accession Number: 20101229-5135.

Comment Date: 5 p.m. Eastern Time on Monday, February 28, 2011.

Docket Numbers: ER00-3621-013; ER01-468-012; ER02-23-016; ER04-249-009; ER04-318-009; ER05-34-009; ER05-35-009; ER05-36-009; ER05-37-009; ER07-1306-008; ER08-1323-004; ER96-2869-017; ER97-30-010; ER97-3561-009; ER99-1695-018.

Applicants: Dominion Nuclear Connecticut, Inc.; Dominion Energy Marketing, Inc.; Fairless Energy, LLC; Dominion Retail, Inc.; Dominion Energy Kewaunee, Inc.; Dominion Energy New England, Inc.; Dominion Energy Salem Harbor, LLC; Dominion Energy Brayton Point, LLC; Dominion Energy Manchester Street, Inc.; NedPower Mt. Storm, LLC; Fowler Ridge Wind Farm LLC; State Line Energy, LLC; Kincaid Generation, L.L.C.; Virginia Electric and Power Company; Elwood Energy, LLC.

Description: Dominion Resources Services, Inc. Supplement to Market Power Analyses.

Filed Date: 12/30/2010.

Accession Number: 20101230-5102.

Comment Date: 5 p.m. Eastern Time on Thursday, January 20, 2011.

Docket Numbers: ER00-2918-021; ER01-1654-024; ER02-2567-021; ER04-485-019; ER05-261-014; ER05-556-002; ER05-728-014; ER08-537-003; ER10-1443-002; ER10-2172-001; ER10-2174-001; ER10-2176-001; ER10-2178-001; ER10-2179-001; ER10-2180-001; ER10-2181-001; ER10-2182-001; ER10-2184-001; ER10-2192-001; ER10-2281-002; ER10-3308-001; ER10-346-007; ER10-662-003; ER99-2948-022.

Applicants: Constellation Energy Commodities Group, R.E. Ginna Nuclear Power Plant, LLC, AES NewEnergy, Inc., Baltimore Gas and Electric Company, Constellation Pwr Source Generation LLC, Nine Mile Point Nuclear Station, LLC, Safe Harbor Water Power Corporation, Calvert Cliffs Nuclear Power Plant LLC, CER Generation, LLC, Constellation Energy Commodities Group M, Handsome Lake Energy, LLC, Constellation Mystic Power, LLC, Criterion Power Partners, LLC.

Description: Constellation MBR Entities Updated Market Power Analysis (Northeast Region).

Filed Date: 12/29/2010.

Accession Number: 20101229-5183.

Comment Date: 5 p.m. Eastern Time on Monday, February 28, 2011.

Docket Numbers: ER01-1403-012; ER01-2968-013; ER01-845-011; ER04-366-010; ER05-1122-009; ER06-1443-008; ER08-107-006.

Applicants: The FirstEnergy Operating Companies; FirstEnergy Solutions Corp.; FirstEnergy Generation Corporation; Jersey Central Power & Light Co.; FirstEnergy Nuclear Generation Corp.; Pennsylvania Power Company; FirstEnergy Mansfield Unit 1 Corp.

Description: FirstEnergy Service Company submits an updated indicative market power screen analysis for wholesale electricity markets within the footprint of PJM Interconnection, LLC etc.

Filed Date: 12/29/2010.

Accession Number: 20101230-0201.

Comment Date: 5 p.m. Eastern Time on Monday, February 28, 2011.

Docket Numbers: ER10-1642-001.

Applicants: EWO Marketing, Inc.

Description: EWO Marketing, Inc. submits tariff filing per 35: EWOM CBR Tariffs Compliance Filing to be effective 6/30/2010.

Filed Date: 12/30/2010.

Accession Number: 20101230-5000.

Comment Date: 5 p.m. Eastern Time on Thursday, January 20, 2011.

Docket Numbers: ER10-2665-002.

Applicants: UNS Electric, Inc.

Description: UNS Electric, Inc. submits tariff filing per 35: OATT Order No. 676-E Compliance Filing to be effective 4/1/2011.

Filed Date: 12/30/2010.

Accession Number: 20101230-5091.

Comment Date: 5 p.m. Eastern Time on Thursday, January 20, 2011.

Docket Numbers: ER11-28-001.

Applicants: Midwest Independent Transmission System Operator, Inc.

Description: Midwest Independent Transmission System Operator, Inc. submits tariff filing per 35: 12-29-10 Att. GG Compliance to be effective 12/5/2010.

Filed Date: 12/29/2010.

Accession Number: 20101229-5137.

Comment Date: 5 p.m. Eastern Time on Wednesday, January 19, 2011.

Docket Numbers: ER11-2566-000.

Applicants: Southwestern Public Service Company.

Description: Southwestern Public Service Company submits tariff filing per 35.13(a)(2)(iii: 2010_12_30_SPS GSEC-Alcove A&R_609-SPS to be effective 12/30/2010.

Filed Date: 12/29/2010.

Accession Number: 20101229-5136.

Comment Date: 5 p.m. Eastern Time on Wednesday, January 19, 2011.

Docket Numbers: ER11-2567-000.

Applicants: Southern California Edison Company.

Description: Southern California Edison Company submits tariff filing per 35.13(a)(2)(iii: Revised RLA AES Huntington Beach Est to Actual Cost of Cable Replmt SA No. 403 to be effective 2/28/2011.

Filed Date: 12/29/2010.

Accession Number: 20101229-5139.

Comment Date: 5 p.m. Eastern Time on Wednesday, January 19, 2011.

Docket Numbers: ER11-2568-000.

Applicants: Southern California Edison Company.

Description: Southern California Edison Company submits tariff filing per 35.13(a)(2)(iii: LGIA Amendment Mountain View IV Project SA No. 245 to be effective 2/28/2011.

Filed Date: 12/29/2010.

Accession Number: 20101229-5140.

Comment Date: 5 p.m. Eastern Time on Wednesday, January 19, 2011.

Docket Numbers: ER11-2569-000.

Applicants: Shell Energy North America (US), L.P.

Description: Shell Energy North America (US), L.P. submits tariff filing per 35.13(a)(2)(iii: Category Seller Request to be effective 2/27/2011.

Filed Date: 12/29/2010.

Accession Number: 20101229-5144.

Comment Date: 5 p.m. Eastern Time on Wednesday, January 19, 2011.

Docket Numbers: ER11-2570-000.

Applicants: Idaho Power Company.

Description: Idaho Power Company submits tariff filing per 35.13(a)(2)(iii: Limiting NAESB Practices and Attachment C Update to be effective 4/1/2011.

Filed Date: 12/29/2010.

Accession Number: 20101229-5157.

Comment Date: 5 p.m. Eastern Time on Wednesday, January 19, 2011.

Docket Numbers: ER11-2571-000.

Applicants: PacifiCorp.

Description: PacifiCorp submits tariff filing per 35.13(a)(2)(iii: Black Hills Windstar JOOM Agreement to be effective 12/30/2010.

Filed Date: 12/29/2010.

Accession Number: 20101229-5159.

Comment Date: 5 p.m. Eastern Time on Wednesday, January 19, 2011.

Docket Numbers: ER11-2572-000.

Applicants: California Independent System Operator Corporation.

Description: California Independent System Operator Corporation submits tariff filing per 35.13(a)(2)(iii: 2010-12-29 CAISO's Non-Conforming LGIA with AV Solar to be effective 12/21/2010.

Filed Date: 12/29/2010.

Accession Number: 20101229-5174.

Comment Date: 5 p.m. Eastern Time on Wednesday, January 19, 2011.

Docket Numbers: ER11-2573-000.

Applicants: New England Power Pool Participants Committee.

Description: New England Power Pool Participants Committee submits tariff filing per 35.13(a)(2)(iii: January 2011 Membership Filing to be effective 1/1/2011.

Filed Date: 12/29/2010.

Accession Number: 20101229-5180.

Comment Date: 5 p.m. Eastern Time on Wednesday, January 19, 2011.

Docket Numbers: ER11-2574-000.

Applicants: California Independent System Operator Corporation.

Description: California Independent System Operator Corporation submits tariff filing per 35.13(a)(2)(iii: 2010-12-30 CAISO Tariff Clarifications Filing to be effective 2/28/2011.

Filed Date: 12/30/2010.

Accession Number: 20101230-5001.

Comment Date: 5 p.m. Eastern Time on Thursday, January 20, 2011.

Docket Numbers: ER11-2575-000.

Applicants: Florida Power Corporation.

Description: Florida Power Corporation submits tariff filing per 35.13(a)(2)(iii: Rate Schedule No. 215 of Florida Power Corporation to be effective 1/1/2011.

Filed Date: 12/30/2010.

Accession Number: 20101230-5031.

Comment Date: 5 p.m. Eastern Time on Thursday, January 20, 2011.

Docket Numbers: ER11-2576-000.

Applicants: Telocaset Wind Power Partners, LLC.

Description: Telocaset Wind Power Partners, LLC submits tariff filing per 35.13(a)(2)(iii: Revised MBR Tariff to be effective 2/28/2011.

Accession Number: 20101230-5084.

Comment Date: 5 p.m. Eastern Time on Thursday, January 20, 2011.

Docket Numbers: ER11-2576-000.

Applicants: Telocaset Wind Power Partners, LLC.

Description: Telocaset Wind Power Partners, LLC, Notice of Category 1 Seller Status.

Filed Date: 12/30/2010.

Accession Number: 20101230-5157.

Comment Date: 5 p.m. Eastern Time on Thursday, January 20, 2011.

Docket Numbers: ER11-2577-000.

Applicants: Cedar Creek Wind Energy, LLC.

Description: Cedar Creek Wind Energy, LLC submits tariff filing per 35.37: Cedar Creek Wind Energy, LLC Market-Based Rates Tariff 1.1 to be effective 9/3/2010.

Filed Date: 12/30/2010.

Accession Number: 20101230-5088.

Comment Date: 5 p.m. Eastern Time on Monday, February 28, 2011.

Docket Numbers: ER11-2578-000.

Applicants: PJM Interconnection, L.L.C.

Description: PJM Interconnection, L.L.C. submits tariff filing per 35.13(a)(2)(iii: 2010 RTEP Annual Allocation Filing to be effective 9/17/2010.

Filed Date: 12/30/2010.

Accession Number: 20101230-5090.

Comment Date: 5 p.m. Eastern Time on Thursday, January 20, 2011.

Docket Numbers: ER11-2579-000.

Applicants: Carolina Power & Light Company.

Description: Carolina Power & Light Company submits tariff filing per 35.13(a)(2)(iii: Revised Schedule 10 of Carolina Power and Light Company OATT to be effective 7/14/2010.

Filed Date: 12/30/2010.

Accession Number: 20101230-5131.

Comment Date: 5 p.m. Eastern Time on Thursday, January 20, 2011.

Docket Numbers: ER11-2580-000.

Applicants: ISO New England Inc.

Description: ISO New England Inc. submits tariff filing per 35.13(a)(2)(iii: Tie Benefits to be effective 3/1/2011.

Filed Date: 12/30/2010.

Accession Number: 20101230-5144.

Comment Date: 5 p.m. Eastern Time on Thursday, January 20, 2011.

Docket Numbers: ER11-2581-000.

Applicants: Midwest Independent Transmission System Operator, Inc.

Description: Midwest Independent Transmission System Operator, Inc. submits tariff filing per 35.13(a)(2)(iii: 12-30-10 Attachment Q revisions to be effective 4/1/2011.

Filed Date: 12/30/2010.

Accession Number: 20101230-5145.

Comment Date: 5 p.m. Eastern Time on Thursday, January 20, 2011.

Take notice that the Commission received the following electric reliability filings:

Docket Numbers: RR09-6-003.

Applicants: North American Electric Reliability Corporation.

Description: Compliance Filing of the North American Electric Reliability Corporation in Response to March 18, 2010 Commission Order Directing Revisions to the Standards Development Procedure.

Filed Date: 12/23/2010.

Accession Number: 20101223-5173.

Comment Date: 5 p.m. Eastern Time on Monday, January 24, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-179 Filed 1-7-11; 8:45 am]

BILLING CODE 6717-01-P